SECURITIES AND EXCHANGE COMMISSION

[Release No. IC-24671]

Notice of Applications for Deregistration Under Section 8(f) of the Investment Company Act of 1940

September 29, 2000.

The following is a notice of applications for deregistration under section 8(f) of the Investment Company Act of 1940 for the month of September 2000. A copy of each application may be obtained for a fee at the SEC's Public Reference Branch, 450 Fifth St., N.W., Washington, DC 20549-0102 (tel. 202-942-8090). An order granting each application will be issued unless the SEC orders a hearing. Interested persons may request a hearing on any application by writing to the SEC's Secretary at the address below and serving the relevant applicant with a copy of the request, personally or by mail.

Hearing requests should be received by the SEC by 5:30 p.m. on October 24, 2000, and should be accompanied by proof of service on the applicant, in the form of an affidavit or, for lawyers, a certificate of service. Hearing requests should state the nature of the writer's interest, the reason for the request, and the issues contested. Persons who wish to be notified of a hearing may request notification by writing to the Secretary, SEC, 450 Fifth Street, N.W., Washington, DC 20549-0609.

FOR FURTHER INFORMATION CONTACT: Diane L. Titus, at (202) 942-0564, SEC, Division of Investment Management, Office of Investment Company Regulation, 450 Fifth Street, NW, Washington, DC 20549-0506.

Strategist Income Fund, Inc. [File No. 811-7305]

Summary: Applicant, whose three series are feeder funds in a master/feeder structure, seeks an order declaring that it has ceased to be an investment company. On July 14, 2000, applicant's series transferred their assets to the following corresponding funds: AXP Federal Income Fund, Inc., AXP Extra Income Fund, Inc., and AXP Selective Fund, Inc., based on net asset value. Expenses of $14,460 incurred in connection with the reorganization were paid by American Express Financial Corporation, investment adviser for the master funds.

Filing Date: The application was filed on August 17, 2000.

Applicant's Address: 200 AXP Financial Center, Minneapolis, Minnesota 55474.

Strategist Growth Fund, Inc. [File No. 811-7401]

Summary: Applicant, whose three series are feeder funds in a master/feeder structure, seeks an order declaring that it has ceased to be an investment company. On July 14, 2000, applicant's series transferred their assets to the following corresponding funds: AXP Growth Series, Inc. and AXP New Dimensions Fund, Inc., based on net asset value. Expenses of $14,460 incurred in connection with the reorganization were paid by American Express Financial Corporation, investment adviser for the master funds.

Filing Date: The application was filed on August 17, 2000.

Applicant's Address: 200 AXP Financial Center, Minneapolis, Minnesota 55474.

Strategist Growth and Income Fund, Inc. [File No. 811-7403]

Summary: Applicant, whose four series are feeder funds in a master/feeder structure, seeks an order declaring that it has ceased to be an investment company. On July 14, 2000, applicant's series transferred their assets to the following corresponding funds: AXP Investment Series, Inc., AXP Stock Fund, Inc., and AXP Managed Series, Inc., based on net asset value. Expenses of $19,280 incurred in connection with the reorganization were paid by American Express Financial Corporation, investment adviser for the master funds.

Filing Date: The application was filed on August 17, 2000.

Applicant's Address: 200 AXP Financial Center, Minneapolis, Minnesota 55474.

Strategist World Fund, Inc. [File No. 811-7405]

Summary: Applicant, whose four series are feeder funds in a master/feeder structure, seeks an order declaring that it has ceased to be an investment company. On July 14, 2000, applicant's series transferred their assets to corresponding series of AXP Global Series, Inc., based on net asset value. Expenses of $19,280 incurred in connection with the reorganization were paid by American Express Financial Corporation, investment adviser for the master funds.

Filing Date: The application was filed on August 17, 2000.

Applicant's Address: 200 AXP Financial Center, Minneapolis, Minnesota 55474.

Strategist Tax-Free Income Fund, Inc. [File No. 811-7407]

Summary: Applicant, a feeder fund in a master/feeder structure, seeks an order declaring that it has ceased to be an investment company. On July 14, 2000, applicant transferred its assets to AXP High Yield Tax-Exempt Fund, Inc., based on net asset value. Expenses of $4,820 incurred in connection with the reorganization were paid by American Express Financial Corporation, investment adviser for the master fund.

Filing Date: The application was filed on August 17, 2000.

Applicant's Address: 200 AXP Financial Center, Minneapolis, Minnesota 55474.

The Russia Growth Fund, Inc. [File No. 811-8456]

Summary: Applicant seeks an order declaring that it has ceased to be an investment company. Applicant has never made a public offering of its securities and does not propose to make any public offering or engage in business of any kind.

Filing Date: The application was filed on July 19, 2000, and amended on September 26, 2000.

Applicant's Address: Fleming International Asset Management Ltd., 25 Coptall Avenue, London EC2R 7DR, England.

Municipal Fund for Temporary Investment [File No. 811-2919]; Municipal Fund for California Investors, Inc. [File No. 811-3574]; and Municipal Fund for New York Investors, Inc. [File No. 811-3678]

Summary: Each applicant seeks an order declaring that it has ceased to be an investment company. On February 10, 1999, each applicant transferred its assets to Provident Institutional Funds based on net asset value. Applicants incurred no expenses in connection with the reorganizations.

Filing Dates: The applications were filed on August 4, 2000, and amended on September 22, 2000.

Applicants' Address: 400 Bellevue Parkway, Wilmington, Delaware 19809.

Floating Rate Portfolio [File No. 811-7969]

Summary: Applicant seeks an order declaring that it has ceased to be an investment company. On March 31, 2000, applicant made a liquidating distribution to its shareholders based on net asset value. Expenses of $10,730 incurred in connection with the liquidation were paid by AIM Advisors, Inc., applicant's investment adviser.

Filing Date: The application was filed on September 14, 2000.

Applicant's Address: 11 Greenway Plaza, Suite 100, Houston, Texas 77046-1173.

GT Global Floating Rate Fund, Inc. (d/b/a AIM Floating Rate Fund) [File No. 811-7957]

Summary: Applicant seeks an order declaring that it has ceased to be an investment company. On March 31, 2000, applicant transferred its assets to AIM Floating Rate Fund based on net asset value. Applicant paid $55,355 in expenses incurred in connection with the reorganization, and applicant's investment adviser, AIM Advisors, Inc., paid the remaining $198,813.

Filing Date: The application was filed on September 14, 2000.

Applicant's Address: 11 Greenway Plaza, Suite 100, Houston, Texas 77046-1173.

Deep Discount Partners Fund Incorporated [File No. 811-9683]

Summary: Applicant seeks an order declaring that it has ceased to be an investment company. Applicant has not made a public offering of its securities, is not now engaged, or intending to engage, in any business actiities other than those necessary for winding up its affairs.

Filing Date: The application was filed on September 19, 2000.

Applicant's Address: 11 South La Salle Street, Chicago, Illinois 60603.

Excelsior Funds [File No. 811-8132]

Summary: Applicant seeks an order declaring that it has ceased to be an investment company. On December 16, 1999, applicant transferred its assets to Excelsior Funds, Inc.'s Money Fund based on net asset value. Expenses of $314,616 incurred in connection with the reorganization were paid by the acquiring fund's investment advisers, United States Trust Company of New York and U.S. Trust Company.

Filing Date: The application was filed on September 11, 2000.

Applicant's Address: 73 Tremont Street, Boston, Massachusetts 02108-3913.

Marketwatch Funds [File No. 811-6696]

Summary: Applicant seeks an order declaring that it has ceased to be an investment company. On March 27, 1998, applicant transferred its assets to The Wachovia Funds and The Wachovia Municipal Funds based on net asset value. All expenses incurred in connection with the reorganization were paid by Wachovia Bank, N.A., applicant's investment adviser.

Filing Date: The application was filed on September 14, 2000.

Applicant's Address: 3435 Stelzer Road, Columbus, Ohio 43219-3035.

Dreyfus New York Insured Tax Exempt Bond Fund [File No. 811-4884]; and Dreyfus Asset Allocation Fund, Inc. [File No. 811-7710]

Summary: Each applicant seeks an order declaring that it has ceased to be an investment company. On September 23, 1999, Dreyfus New York Insured Tax Exempt Bond Fund transferred its assets to General New York Municipal Bond Fund, Inc., based on net asset value. On the same date, Dreyfus Asset Allocation Fund, Inc. transferred its assets to Dreyfus LifeTime Portfolios, Inc.—Growth and Income Portfolio, based on net asset value. Expenses of $15,000 and $35,000, respectively, incurred in connection with the reorganizations were paid by each applicant.

Filing Date: The applications were filed on August 24, 2000.

Applicant's Address: 200 Park Avenue, New York, New York 10166.

For the Commission, by the Division of Investment Management, pursuant to delegated authority.
Margaret H. McFarland,
Deputy Secretary.

[FR Doc. 00-25590 Filed 10-4-00; 8:45 am]

BILLING CODE 8010-01-M